DEPARTMENT OF DEFENSE

Office of the Secretary

Historical Advisory Committee; Meeting

AGENCY: Department of Defense.

ACTION: Notice of open meeting.

SUMMARY: Notice is hereby given of the forthcoming meeting of the Historical Records Declassification Advisory Panel (HRDAP). The purpose of this meeting is to discuss recommendations to the Department of Defense on topical areas of interest that, from a historical perspective, would be of the greatest benefit to the public if declassified. This is the first session held in 2001. The OSD Historian will chair this meeting.

DATES: Friday, March 30, 2001.

TIME: The meeting is scheduled 9 a.m. to 3 p.m.

ADDRESSES: The National Archives Building, Room 105, 7th Street and Pennsylvania Avenue, NW., Washington, DC 20408.

FOR FURTHER INFORMATION CONTACT: CDR Randy Lovdahl, Office of the Deputy Assistant Secretary of Defense (Security and Information Operations), Office of the Assistant Secretary of Defense (Command, Control, Communications and Intelligence), 6000 Defense Pentagon, Washington, DC 20302-6000, telephone (703) 602-0980, ext. 168.

Dated: March 14, 2001.
L.M. Bynum,
Alternate OSD Federal Register Liaison Officer, Department of Defense.

[FR Doc. 01-6993 Filed 3-20-01; 8:45 am]

BILLING CODE 5001-10-M